DEPARTMENT OF ENERGY

Federal Energy Regulatory Commission

Combined Notice of Filings #2

Take notice that the Commission received the following exempt wholesale generator filings:

Docket Numbers: EG13-20-000.

Applicants: Ivanpah Master Holdings, LLC.

Description: Notice of Self-Certification of Exempt Wholesale Generator Status of Ivanpah Master Holdings, LLC.

Filed Date: 3/20/13.

Accession Number: 20130320-5072.

Comments Due: 5 p.m. ET 4/10/13.

Take notice that the Commission received the following electric rate filings:

Docket Numbers: ER12-959-000.

Applicants: Southwest Power Pool, Inc.

Description: Southwest Power Pool, Inc. submits Informational Response to the February 22, 2013 Commission Order on Rehearing.

Filed Date: 3/19/13.

Accession Number: 20130319-5038.

Comments Due: 5 p.m. ET 4/9/13.

Docket Numbers: ER13-1083-001.

Applicants: Union Atlantic Electricity.

Description: Amended MBR Tariff Filing to be effective 5/14/2013.

Filed Date: 3/20/13.

Accession Number: 20130320-5022.

Comments Due: 5 p.m. ET 4/10/13.

Docket Numbers: ER13-1133-000.

Applicants: Southern California Edison Company.

Description: Revised Added Facilities Rate for 4 Rate Schedule Agreements to be effective 1/1/2013.

Filed Date: 3/20/13.

Accession Number: 20130320-5002.

Comments Due: 5 p.m. ET 4/10/13.

Docket Numbers: ER13-1134-000.

Applicants: Southern California Edison Company.

Description: GIA and Distribution Service Agreement Alamo Solar LLC to be effective 3/21/2013.

Filed Date: 3/20/13.

Accession Number: 20130320-5003.

Comments Due: 5 p.m. ET 4/10/13.

Docket Numbers: ER13-1135-000.

Applicants: Piedmont Energy Fund, LP.

Description: Initial Baseline for MBR Tariff No. 1 to be effective 4/21/2014.

Filed Date: 3/20/13.

Accession Number: 20130320-5046.

Comments Due: 5 p.m. ET 4/10/13.

Docket Numbers: ER13-1136-000.

Applicants: Ivanpah Master Holdings, LLC.

Description: Ivanpah Master Holdings, LLC submits FERC Electric Tariff No. 1 to be effective 5/20/2013.

Filed Date: 3/20/13.

Accession Number: 20130320-5062.

Comments Due: 5 p.m. ET 4/10/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 20, 2013.
Nathaniel J. Davis, Sr.,
Deputy Secretary.

[FR Doc. 2013-06991 Filed 3-26-13; 8:45 am]

BILLING CODE 6717-01-P